Title 3—

The President

Proclamation 8720 of September 23, 2011

National Hunting and Fishing Day, 2011

By the President of the United States of America

A Proclamation

On vast plains and through dense forests, along rocky riverbanks and atop tranquil lakes, Americans of every age and background cherish their connection to the great outdoors. As we mark National Hunting and Fishing Day, we are reminded of the uniquely American idea that each of us has an equal share in the land around us and an equal responsibility to protect it.

America’s hunters and anglers directly experience the endless beauty and reward of our Nation’s bounty. We have long depended on this land to sustain us, from our Native American ancestors and the settlers on the Eastern Seaboard to the sportsmen and women of today. Fishing and hunting are traditions that span untold lengths of time, enabling important bonds to the land and between generations to form. Sportsmen also develop unique connections to the land they enjoy, and hunters and fishermen were some of our first conservationists. These relationships are preserved and passed on with pride, along with a deep and abiding respect for nature.

Today, we continue the essential work of conserving and sustaining our precious environment. Our landscapes are not only a source of pleasure, but a valuable resource for our local economies and the livelihood of many across America. Last year, after an unprecedented public engagement effort, with input from across our country, my Administration launched the America’s Great Outdoors Initiative. Through this initiative, we are working to meet the unique challenges of environmental stewardship in the 21st century and create community-based solutions for conservation.

As part of the America’s Great Outdoors Initiative, we recently established the Federal Interagency Council on Outdoor Recreation to assist with promoting outdoor recreational activities for American families on public lands. By coordinating with State, local, and tribal governments, and other stakeholders, the Council aims to connect our families, and especially our youth, to the rugged beauty of the natural wonders our Nation’s hunters and anglers know so well.

Protecting the conservation legacy of our past is the responsibility of all Americans. Working together, we can preserve the wonder of nature while building a future where all Americans are able to enjoy and share in her bounty.

NOW, THEREFORE, I, BARACK OBAMA, President of the United States of America, by virtue of the authority vested in me by the Constitution and the laws of the United States, do hereby proclaim September 24, 2011, as National Hunting and Fishing Day. I call upon all Americans to observe this day with appropriate programs and activities.

IN WITNESS WHEREOF, I have hereunto set my hand this twenty-third day of September, in the year of our Lord two thousand eleven, and of the Independence of the United States of America the two hundred and thirty-sixth.

[FR Doc. 2011-25066

Filed 9-27-11; 8:45 am]

Billing code 3195-W1-P